DEPARTMENT OF EDUCATION

Notice of Proposed Information Collection Requests

AGENCY: Department of Education.

ACTION: Correction Notice/Change of Comment Period.

SUMMARY: On January 31, 2003, the Department of Education published a 60-day public comment period notice in the Federal Register (Page 5004, Column 3) for the information collection, “Indian Education Formula Grants to Local Educational Agencies (LEAs).” This notice should have requested comments within the 30-day period since a 60-day notice was already provided for this program. Interested persons are invited to submit comments on or before March 21, 2003. The Leader, Regulatory Information Management Group, Office of the Chief Information Officer, hereby issues a correction notice as required by the Paperwork Reduction Act of 1995.

FOR FURTHER INFORMATION CONTACT: Kathy Axt at her e-mail address Kathy.Axt@ed.gov.

Dated: February 12, 2003.
John D. Tressler,
Leader, Regulatory Management Group, Office of the Chief Information Officer.

[FR Doc. 03-3916 Filed 2-18-03; 8:45 am]

BILLING CODE 4000-01-P